FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 21, 2011.

A. Federal Reserve Bank of Kansas City (Dennis Denney, Assistant Vice President) 1 Memorial Drive, Kansas City, Missouri 64198-0001:

1. Teresa L. Keslar, Beatrice, Nebraska, to acquire control of Keystone Investment, Inc., and thereby indirectly acquire control of Bank of Keystone, both in Keystone, Nebraska.

B. Federal Reserve Bank of San Francisco (Kenneth Binning, Vice President, Applications and Enforcement) 101 Market Street, San Francisco, California 94105-1579:

1. Castle Creek Capital Partners IV, LP, Castle Creek Advisors IV, LLC, Castle Creek Capital IV, LLC, John T. Pietrzak, Pietrzak Advisory Corp., John M. Eggemeyer, JME Advisory Corp., William J. Ruh, Ruh Advisory Corp., Mark G. Merlo, Legions IV Advisory Corp., Joseph Mikesell Thomas, and Mikesell Advisory Corp., all of Rancho Santa Fe, California as a group acting in concert, to acquire control of Intermountain Community Bancorp, and thereby indirectly acquire control of Panhandle State Bank, both of Sandpoint, Idaho.

Board of Governors of the Federal Reserve System, June 1, 2011.
Robert deV. Frierson,
Deputy Secretary of the Board.

[FR Doc. 2011-13883 Filed 6-3-11; 8:45 am]

BILLING CODE 6210-01-P